DEPARTMENT OF HEALTH AND HUMAN SERVICES

National Institutes of Health

National Institute on Minority Health and Health Disparities; Amended Notice of Meeting

Notice is hereby given of a change in the meeting of the National Institute on Minority Health and Health Disparities Special Emphasis Panel, which was published in the Federal Register on May 10, 2019, 91FR20644.

This Federal Register Notice is being amended to correct the Contact Person's phone number and email address from (301) 451-2432, ismonddr@mail.nih.gov to (301) 451-9536, mlaudesharp@nih.gov. The meeting is closed to the public.

Dated: May 21, 2019.
Ronald J. Livingston, Jr.,
Program Analyst, Office of Federal Advisory Committee Policy.

[FR Doc. 2019-10947 Filed 5-23-19; 8:45 am]

BILLING CODE 4140-01-P